DEPARTMENT OF THE INTERIOR

Bureau of Land Management

[WY-920-1310-01; WYW144809]

Wyoming: Notice of Proposed Reinstatement of Terminated Oil and Gas Lease WYW144809

AGENCY: Bureau of Land Management, Interior.

ACTION: Notice of Proposed Reinstatement of Terminated Oil and Gas Lease

SUMMARY: Under the provisions of 371(a) of the Energy Policy Act of 2005, the lessees: Carpenter and Sons, Inc.; Goolsby and Associates, LLC; North Finn, LLC; Tika Energy Inc., and American Oil and Gas, Inc. timely filed a petition for reinstatement of noncompetitive oil and gas lease WYW144809 in Johnson County, Wyoming. The lessees paid the required rental accruing from the date of termination, April 1, 2002.

No leases were issued that affect these lands. The lessees have agreed to the new lease terms for rentals of $5.00 per acre and royalties of 16⅔ percent or 4 percentages above the existing noncompetitive royalty rates. The lessees have paid the required $500 administrative fee for the reinstatement of the lease and $166 cost for publishing this Notice.

The lessees have met all the requirements for reinstatement of the lease per Section 31(e) of the Mineral Leasing Act of 1920 (30 U.S.C. 188(e)). We are proposing to reinstate the lease, effective the date of termination subject to:

• The original terms and conditions of the lease;

• The increased rental of $5.00 per acre; and

• The increased royalty of 16⅔ percent or 4 percentages above the existing noncompetitive royalty rates.

FOR FURTHER INFORMATION CONTACT: Bureau of Land Management, Pamela J. Lewis, Chief, Branch of Fluid Minerals Adjudication, at (307) 775-6176.

Pamela J. Lewis,
Chief, Branch of Fluid Minerals Adjudication.

[FR Doc. E6-3138 Filed 3-6-06; 8:45 am]

BILLING CODE 4310-22-P